OFFICE OF THE UNITED STATES TRADE REPRESENTATIVE

Generalized System of Preferences (GSP): Request for Public Comments on the Possible Withdrawal, Suspension, or Limitation of GSP Benefits With Respect to Bangladesh

AGENCY: Office of the United States Trade Representative.

ACTION: Notice and solicitation of public comment.

SUMMARY: As part of an ongoing country practice review, the GSP Subcommittee of the Trade Policy Staff Committee (TPSC) is considering whether to recommend that duty-free treatment accorded to imports from Bangladesh under the GSP program be withdrawn, suspended, or limited on the grounds that Bangladesh is not taking steps to afford to workers in Bangladesh internationally recognized worker rights, specifically the right of association and the right to organize and bargain collectively. The GSP Subcommittee is seeking public comments on the effect of a withdrawal, suspension, or limitation of GSP benefits on products imported into the United States from Bangladesh.

FOR FURTHER INFORMATION CONTACT: Contact Marin Weaver, Director for GSP, Office of the United States Trade Representative, 600 17th Street NW., Washington, DC 20508. The telephone number is (202) 395-9618 and the email address is Marin_Weaver@ustr.eop.gov.

DATES: Final date for comments is January 31, 2013.

SUPPLEMENTARY INFORMATION: The GSP program is authorized pursuant to Title V of the Trade Act of 1974, as amended (19 U.S.C. 2461 et seq.). The GSP program grants duty-free treatment to designated eligible articles that are imported from designated beneficiary developing countries. Once granted, GSP benefits may be withdrawn, suspended, or limited by the President with respect to any article or with respect to any country (19 U.S.C. 2462(d)(1)). In making this determination, the President must consider several factors, one of which is whether a beneficiary country “has taken or is taking steps to afford to workers in that country (including any designated zone in that country) internationally recognized worker rights” (19 U.S.C. 2462(c)(7)). Bangladesh is a designated beneficiary developing country under the GSP program, as well as a least-developed beneficiary developing country.

Possible Withdrawal, Suspension, or Limitation of GSP Benefits for Bangladesh

In 2007, the GSP Subcommittee accepted for review a GSP country practice petition submitted by the AFL-CIO seeking the removal of GSP benefits for Bangladesh based on the country's non-compliance with the GSP statutory eligibility criteria related to worker rights. The GSP Subcommittee held public hearings on the petition in October 2007, April 2009, and January 2012, and also invited public comments on the petition on several occasions. The original petition and other information related to the review of Bangladesh are available for public viewing on www.regulations.gov in docket USTR-2012-0036.

Based on the most recent available information, including updated reports from the AFL-CIO, the GSP Subcommittee believes that the lack of progress by the government of Bangladesh in addressing worker rights issues in the country warrants consideration of possible withdrawal, suspension, or limitation of Bangladesh's trade benefits under GSP. By statute, any change in Bangladesh's trade benefits under GSP would require the President to make a determination.

In 2011, U.S. imports from Bangladesh under GSP totaled $26.3 million. Among the leading GSP imports from Bangladesh were tobacco products, sports equipment, china kitchenware, and plastic articles. A full list of U.S. imports from Bangladesh under GSP may be found in the www.regulations.gov docket cited above.

Opportunity for Public Comment; Requirements for Submissions

This notice invites public comments on the effect of a possible withdrawal, suspension, or limitation of GSP benefits on products imported into the United States from Bangladesh. The GSP Subcommittee may also convene a public hearing to receive testimony on this topic. If so, the date of that hearing and related instructions will be announced in the Federal Register.

Requirements for Submissions

All submissions in response to this notice must conform to the GSP regulations set forth at 15 CFR part 2007, except as modified below. These regulations are available on the USTR Web site at http://www.ustr.gov/trade-topics/trade-development/preference-programs/generalized-system-preference-gsp/gsp-program-inf.

All submissions in response to this notice must be submitted electronically via http://www.regulations.gov, using docket number USTR-2012-0036. Hand-delivered submissions will not be accepted. Submissions must be submitted in English to the Chairman of the GSP Subcommittee of the TPSC by the applicable deadlines set forth in this notice. To make a submission using http://www.regulations.gov, enter docket number USTR-2012-0036 in the “Search for” field on the home page and click “Search.” The site will provide a search-results page listing all documents associated with this docket. Find a reference to this notice by selecting “Notice” under “Document Type” in the “Filter Results by” section on the left side of the screen and click on the link entitled “Comment Now.” The http://www.regulations.gov Web site offers the option of providing comments by filling in a “Type Comment” field or by attaching a document using the “Upload file(s)” field. The Subcommittee prefers that submissions be provided in an attached document. At the beginning of the submission, or on the first page (if an attachment), please note that the submission is in response to this Federal Register notice and provides comments on the possible withdrawal, suspension, or limitation of GSP benefits for Bangladesh. Submissions should not exceed 30 single-spaced, standard letter-size pages in 12-point type, including attachments. Any data attachments to the submission should be included in the same file as the submission itself, and not as separate files.

Each submitter will receive a submission tracking number upon completion of the submissions procedure at http://www.regulations.gov. The tracking number will be the submitter's confirmation that the submission was received into http://www.regulations.gov. The confirmation should be kept for the submitter's records. USTR is not able to provide technical assistance for the Web site. Documents not submitted in accordance with these instructions may not be considered in this review. If an interested party is unable to provide submissions as requested, please contact the GSP Program at USTR to arrange for an alternative method of transmission.

Business Confidential Submissions

An interested party requesting that information contained in a submission be treated as business confidential information must certify that such information is business confidential and would not customarily be released to the public by the submitter. Confidential business information must be clearly designated as such. The submission must be marked “BUSINESS CONFIDENTIAL” at the top and bottom of the cover page and each succeeding page, and the submission should indicate, via brackets, the specific information that is confidential. Additionally, “Business Confidential” must be included in the “Type Comment” field. For any submission containing business confidential information, a non-confidential version must be submitted separately (i.e., not as part of the same submission with the confidential version), indicating where confidential information has been redacted. The non-confidential version will be placed in the docket and open to public inspection.

William D. Jackson,
Deputy Assistant U.S. Trade Representative for the Generalized System of Preferences, Office of the U.S. Trade Representative.

[FR Doc. 2013-00067 Filed 1-7-13; 8:45 am]

BILLING CODE 3290-F3-P